DEPARTMENT OF AGRICULTURE

Food and Nutrition Service

Agency Information Collection Activities: Proposed Collection; Comment Request: Food Stamp Program Pre-Screening Tool Survey

AGENCY: Food and Nutrition Service, USDA.

ACTION: Notice.

SUMMARY: In accordance with the Paperwork Reduction Act of 1995, this notice invites the general public and other public agencies to comment on the proposed extension of this collection. The information collection involves the use of a web-based pre-screening tool for the general public to use to determine potential eligibility for Food Stamp Program benefits. A new component of this tool collects survey data about the usability of the tool. Some data provided by the users will be captured and retained for analytical purposes. No personal identifiers such as last names, social security numbers, birthdates, etc. will be collected or retained.

DATES: Written comments must be submitted on or before May 31, 2005.

ADDRESSES: Send comments to Celeste Perkins, Contracting Officer Technical Representative, Program Development Division, Food Stamp Program, Food and Nutrition Service, U.S. Department of Agriculture, 3101 Park Center Drive, Room 810, Alexandria, VA 22302.

Pursuant to the Paperwork Reduction Act of 1995 (44 U.S.C. 3507), comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate, automated, electronic, mechanical, or other technological collection techniques or other forms of information technology.

All comments will be summarized and included in the request for Office of Management and Budget approval of the information collection. All comments will become a matter of public record.

FOR FURTHER INFORMATION CONTACT: Requests for additional information should be directed to Celeste Perkins at (703) 305-2507

SUPPLEMENTARY INFORMATION: Title: Food Stamp Program Pre-Screening Tool.

OMB Number: 0584-0519.

Expiration Date: May 31, 2005.

Type of Request: Revision of a currently approved collection.

Abstract: In June 2003 the Food and Nutrition Service (FNS) deployed an interactive web-based food stamp pre-screening tool that can be utilized by the general public to determine potential Food Stamp Program eligibility. A previous notice was published in the Federal Register on May 10, 2002 at 67 FR 31760. The tool has two components. The first component helps the users determine their eligibility for food stamps. Once the user enters household size, income, expenses and resource information, the tool will calculate and provide the user with an estimated range of benefits that the household may be eligible to receive. Other data collected are:

• ID (Each entry is assigned a unique identifier)

• State (System stores answer to required entry: which state or territory the user is from)

• Number of Children (System stores required entry: number of children in the household)

• Number of Elderly (System stores required entry: number of elderly members in the household)

• Migrant Workers (System stores required entry: is anyone in the household a seasonal or migrant farm worker)

• Homeless (System stores required entry: is the household homeless or living in a shelter)

• User Type (System stores required entry: who is using the tool)

• User Referral (System stores required entry: how the user heard about the tool)

• Amount (System stores tool output: if user was eligible to receive benefits and if so the estimated range of benefits)

Since food stamp eligibility and benefit amount may vary by location, FNS makes it clear that the tool is only an estimator, and the household will need to contact the local agency to determine actual eligibility and the appropriate benefit amount.

FNS does not retain any specific identifying information like last names, social security numbers, birthdays, etc about the household itself in the tool; however, the system does request the following information during the initial process in which the user enters data:

• The State in which the user resides;

• Whether the user is using the tool for personal reasons or on behalf of others;

• If they are using it on the behalf of others; the user will be asked to identify him/herself (e.g., relative of a person in need, advocacy organization, faith-based group, etc.) using a drop down menu.

Note: The above information is not retained once the user logs out of the system.

The second component is a formal survey appended to this tool. This information will help FNS to determine the degree of usage, the need for modifying the tool and potential areas for further study.

The optional Survey Component consists of responses to the following items:

• Gender (System stores optional survey entry: User gender)

• Zip Code (System stores optional survey entry: User zip code)

• Current Food Stamp Participation (System stores optional survey entry: Is user currently receiving food stamp benefits)

• Past Food Stamp Participation (System stores optional survey entry: Has user ever received food stamps)

• Will Apply (System stores optional survey entry: Will the user apply for food stamps)

• Tool Ease ( System stores optional survey entry: Was the tool easy to use)

• Changed Mind (System stores optional survey entry: Did the result of the screening change the likelihood that the user will apply for benefits)

• Completed Survey (System stores tool output: Was a survey completed (partially, in full or not at all)

• Comments (System stores optional survey entry: User comments)

Estimate of Burden

Pre-Screening Tool Component Burden

Affected Public: Potential food stamp applicants and those using the tool on their behalf.

Estimated Number of Respondents: 264,000 per year.

Number of Responses per Respondent: 1.

Total Number of Annual Responses: 264,000.

Estimated Time per Response: 10 minutes.

Estimated Total Annual Burden: 44,000 hours.

Survey Component Burden

Affected Public: Potential food stamp applicants and those using the tool on their behalf.

Estimated Number of Respondents: 251,000 per year.

Number of Responses per Respondent: 1.

Total Number of Annual Responses: 251,000.

Estimated Time per Response: 1 minute.

Estimated Total Survey Annual Burden: 4,183 hours.

Estimated Total Pre-Screening Tool Annual Burden + Estimated Total Survey Annual Burden: 48,183.

Dated: March 28, 2005.
Jerome A. Lindsay,
Acting Administrator, Food and Nutrition Service.

[FR Doc. 05-6489 Filed 3-31-05; 8:45 am]

BILLING CODE 3410-30-P